DEPARTMENT OF THE TREASURY

Proposed Collection; Comment Request; Office of the Fiscal Assistant Secretary

AGENCY: Departmental Office, Treasury.

ACTION: Notice and request for comments.

SUMMARY: The Department of the Treasury invites the general public and other Federal agencies to comment on extension of an existing information collection, as required by the Paperwork Reduction Act of 1995, Public Law 104-13 (44 U.S.C. 3506(c)(2)(A)). The Department of the Treasury is soliciting comments concerning the Application, Reports, and Recordkeeping for the Direct Component and the Centers of Excellence Research Grants Program of the RESTORE Program.

DATES: Written comments should be received on or before January 20, 2015 to be assured of consideration.

ADDRESSES: Send comments regarding the burden estimate, or any other aspect of the information collection, including suggestions for reducing the burden to Janet Vail, U.S. Department of the Treasury, RESTORE Act, Room 1132, Washington, DC 20220, or by email to restoreact@treasury.gov.

FOR FURTHER INFORMATION CONTACT: Requests for additional information should be directed to Janet Vail, U.S. Department of the Treasury, RESTORE Act, Room 1132, Washington, DC 20220, or by email to restoreact@treasury.gov.

SUPPLEMENTARY INFORMATION:

OMB Control Number: 1505-0250.

Title: Application, Reports, and Recordkeeping for the Direct Component and the Centers of Excellence Research Grants Program of the RESTORE Program.

Abstract: The Department of the Treasury administers the Direct Component and the Centers of Excellence Research Grants Program authorized under the Resources and Ecosystems Sustainability, Tourist Opportunities, and Revived Economies of the Gulf Coast States Act (RESTORE). These programs require Treasury to make grants from the Gulf Coast Restoration Trust Fund to five States and certain Florida counties and Louisiana parishes impacted by the Deepwater Horizon Oil Spill. The information collected will be used to identify eligible recipients; describe proposed activities; determine an appropriate amount of funding; ensure compliance with applicable laws; track grantee progress; and report on the effectiveness of the programs.

Type of Review: Extension of a currently approved collection.

Affected Public: State and Local Governments.

Estimated Number of Respondents: 52.

Estimated Annual Response: 557.

Estimated Annual Burden Hours: 6,864.

Request for Comment: Comments submitted in response to this notice will be summarized and included in the request for Office of Management and Budget approval. All comments will become a matter of public record. The public is invited to submit comments concerning: (a) Whether the collection of information is necessary for the proper performance of the functions of the agency, including whether the information will have practical utility; (b) the accuracy of the agency's estimate of the burden of the collection of information; (c) ways to enhance the quality, utility, and clarity of the information to be collected; and (d) ways to minimize the burden of the collection of information on respondents, including the use of automated collection techniques or other forms of information technology; and (e) estimates of capital or start-up costs and costs of operation, maintenance, and purchase of services to provide information.

Dated: November 13, 2014.
Dawn D. Wolfgang,
Treasury PRA Clearance Officer.

[FR Doc. 2014-27229 Filed 11-17-14; 8:45 am]

BILLING CODE 4810-25-P